DEPARTMENT OF COMMERCE

International Trade Administration

[A-489-805 and C-489-806]

Notice of Final Results of Changed Circumstances Antidumping and Countervailing Duty Administrative Reviews: Certain Pasta from Turkey

AGENCY: Import Administration, International Trade Administration, Department of Commerce.

ACTION: Notice of Final Results of Changed Circumstances Antidumping and Countervailing Duty Administrative Reviews.

SUMMARY: On November 17, 2003, the Department of Commerce published in the Federal Register, the initiation and preliminary results of the changed circumstances administrative reviews examining whether Tat Konserve Sanayi A.S. is the successor-in-interest to Pastavilla Makarnacilik Sanayi ve Ticaret A.S. We gave interested parties an opportunity to comment on the preliminary results of these reviews, but received no comments. The Department has now completed these reviews in accordance with section 751(b)(1) of the Tariff Act of 1930, as amended. For the final results, the Department of Commerce continues to find that Tat Konserve Sanayi A.S. is the successor-in-interest to Pastavilla Makarnacilik Sanayi ve Ticaret A.S.

DATES: January 8, 2004.

FOR FURTHER INFORMATION CONTACT: Melanie Brown (Countervailing) or Lyman Armstrong (Antidumping), Office of AD/CVD Enforcement, Import Administration, International Trade Administration, U.S. Department of Commerce, 14th and Constitution Avenue, NW, Washington, DC 20230; telephone: (202) 482-4987, or (202) 482-3601, respectively.

SUPPLEMENTARY INFORMATION:

Background

On November 17, 2003, the Department of Commerce (“the Department”) published the initiation and the preliminary results of these changed circumstances reviews, finding that Tat Konserve Sanayi A.S. (“Tat”) is the successor-in-interest to Pastavilla Makarnacilik Sanayi ve Ticaret A.S. (“Pastavilla”), and should receive the same antidumping and countervailing duty treatment accorded Pastavilla. See Notice of Initiation and Preliminary Results of Changed Circumstances Antidumping and Countervailing Duty Administrative Reviews: Certain Pasta from Turkey (“Preliminary Results”), 68 FR 64856 (November 17, 2003). We gave interested parties 30 days to comment on our preliminary results. No interested parties provided comments.

Scope of the Reviews

Imports covered by these reviews are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of these reviews are refrigerated, frozen, or canned pastas, as well as all forms of egg pasta, with the exception of non-egg dry pasta containing up to two percent egg white.

The merchandise subject to review is currently classifiable under item 1902.19.20 of the Harmonized Tariff Schedule of the United States (“HTSUS”). Although the HTSUS subheading is provided for convenience and customs purposes, the written description of the merchandise subject to the orders is dispositive.

Scope Rulings

The Department has issued the following scope ruling to date: (1) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See Memorandum from John Brinkman to Richard Moreland, dated May 24, 1999, in the case file in the Central Records Unit, main Commerce building, room B-099.

Final Results

On the basis of the record developed in these changed circumstances reviews, we find Tat to be the successor-in-interest to Pastavilla for purposes of determining antidumping and countervailing duty liability. For a complete discussion of the basis for this decision see the Preliminary Results. Because we received no comments from any party on the Preliminary Results, we have adopted the same position for these final results. Therefore, Tat shall retain the antidumping and countervailing duty cash deposit rates assigned to Pastavilla by the Department in the most recent administrative reviews of the subject merchandise. These cash deposit rates are effective for all shipments of the subject merchandise from Tat entered, or withdrawn from warehouse, for consumption on or after the publication date of this notice.

We are issuing and publishing these results and notice in accordance with sections 751(b)(1) and 777(i)(1) of the Tariff Act of 1930, as amended, and 19 CFR 351.216 and 19 CFR 351.221(c)(3).

Dated: December 30, 2003.
James J. Jochum,
Acting Assistant Secretary for Import Administration.

[FR Doc. 04-364 Filed 1-7-04; 8:45 am]

BILLING CODE 3510-DS-S